NUCLEAR REGULATORY COMMISSION

[NRC-2011-0097]

Thermal Overload Protection for Electric Motors on Motor-Operated Valves

AGENCY: Nuclear Regulatory Commission.

ACTION: Regulatory guide; issuance.

SUMMARY: The U.S. Nuclear Regulatory Commission (NRC or Commission) is issuing a revision to Regulatory Guide (RG) 1.106, “Thermal Overload Protection for Electric Motors on Motor-Operated Valves.” This regulatory guide describes a method acceptable to NRC's staff for complying with NRC requirements for the application of thermal overload protection devices that are integral with the motor starter for electric motors on motor-operated valves.

ADDRESSES: Please refer to Docket ID NRC-2011-0097 when contacting the NRC about the availability of information regarding this document. You may access information related to this document, which the NRC possesses and is publicly-available, using the following methods:

• Federal Rulemaking Web site: Go to http://www.regulations.gov and search for Docket ID NRC-2011-0097. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) Reference staff at 1-800-397-4209, 301-415-4737, or by email to pdr.resource@nrc.gov. The ADAMS accession number for each document referenced in this notice (if that document is available in ADAMS) is provided the first time that a document is referenced. The regulatory guide is available electronically under ADAMS Accession Number ML112580358. The regulatory analysis may be found in ADAMS under Accession Number ML120170063.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Edward O'Donnell, Regulatory Guide Development Branch, Division of Engineering, Office of Nuclear Regulatory Research, U.S. Nuclear Regulatory Commission, Washington, DC 20555-0001, telephone: 301-251-7455; email: Edward.ODonnell@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 1.106 was issued with a temporary identification as Draft Regulatory Guide, DG-1264. This regulatory guide describes a method acceptable to the NRC staff regarding the application of thermal overload protection devices. This method would ensure that the thermal overload protection devices will not needlessly prevent the motor from performing its safety-related function.

II. Further Information

DG-1264, was published in the Federal Register on May 02, 2011 (76 FR 24538) for a 60-day public comment period. The public comment period closed on June 28, 2011. The NRC staff's responses to the public comments on DG-1264 are available under ADAMS Accession Number ML112580363.

III. Backfitting and Issue Finality

Issuance of this final regulatory guide does not constitute backfitting as defined in 10 CFR 50.109 (the Backfit Rule) and is not otherwise inconsistent with the issue finality provisions in 10 CFR Part 52. As discussed in the “Implementation” discussion of this regulatory guide, the NRC has no current intention to impose this regulatory guide on holders of current operating licenses or combined licenses. Accordingly, the issuance of this regulatory guide does not constitute “backfitting'” as defined in 10 CFR 50.109(a)(1) or is otherwise inconsistent with the applicable issue finality provisions in 10 CFR Part 52.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR Part 52, inasmuch as such applicants or potential applicants are not within the scope of entities protected by the Backfit Rule or the relevant issue finality provisions in 10 CFR Part 52.

Dated at Rockville, Maryland, this 17th day of February 2012.
For the Nuclear Regulatory Commission.
Mark P. Orr,
Acting Chief, Regulatory Guide Development Branch, Division of Engineering, Office of Nuclear Regulatory Research.

[FR Doc. 2012-4552 Filed 2-24-12; 8:45 am]

BILLING CODE 7590-01-P